DEPARTMENT OF LABOR

Employee Benefits Security Administration

126th Plenary Meeting, Advisory Council on Employee Welfare and Pension Benefit Plans; Notice of Meeting

Pursuant to the authority contained in section 512 of the Employee Retirement Income Security Act of 1974 (ERISA), 29 U.S.C. 1142, the 126th open meeting of the full Advisory Council on Employee Welfare and Pension Benefit Plans will be held on Wednesday, August 4, 2004.

The session will take place in Room N3437 A-C, U.S. Department of Labor Building, 200 Constitution Avenue, NW., Washington, DC 20210. The purpose of the meeting, which will begin at 9 a.m. and end at approximately 10:30 a.m., is for the chairpersons of the Council's working groups to provide progress reports; for Council members to discuss suggestions for the next National Summit on Retirement Savings; and to receive an update on the activities of the Employee Benefits Security Administration.

Organizations or members of the public wishing to submit a written statement pertaining to any topics under consideration by the Advisory Council may do so by submitting 20 copies on or before July 23, 2004, to Debra Golding, ERISA Advisory Council, U.S. Department of Labor, Room N-5656, 200 Constitution Avenue, NW., Washington, DC 20210. Statements received on or before July 23, 2004, will be included in the record of the meeting. Individuals or representatives of organizations wishing to address the Advisory Council should forward their request to Debra Golding at the above address or via telephone at (202) 693-8664. Oral presentations will be limited to 10 minutes, time permitting, but an extended statement may be submitted for the record. Individuals with disabilities who need special accommodations should contact Debra Golding by July 23 at the address indicated in this notice.

Signed in Washington, DC, this 16th day of July, 2004.
Ann L. Combs,
Assistant Secretary, Employee Benefits Security Administration.

[FR Doc. 04-16690 Filed 7-21-04; 8:45 am]

BILLING CODE 4516-29-M